SECURITIES AND EXCHANGE COMMISSION

Submission for OMB Review; Comment Request

Upon Written Request, Copies Available From: Securities and Exchange Commission, Office of Filings and Information Services, 450 5th Street, NW., Washington, DC 20549.

Extension:

Rule 44, SEC File No.270-162; OMB Control No. 3235-0147;

Notice is hereby given that, pursuant to the Paperwork Reduction Act of 1995 (44 U.S.C. 3501, et seq.), the Securities and Exchange Commission (“Commission”) has submitted to the Office of Management and Budget (“OMB”) a request for extension of the matters relating to the previously approved collections of information discussed below.

Rule 44, Part 250.44 [17 CFR 250.44] under the Public Utility Holding Company Act of 1935, as amended (“Act”), 15 U.S.C. 79, et seq., prohibits sales of utility assets and utility securities owned by public utility holding companies registered under the Act, except pursuant to a declaration filed with, and approved by, the Commission.

The Commission estimates that the total annual reporting burden of Rule 44 is 96 hours (4 responses × 24 hours = 96 hours).

The estimate of average burden hours is made for purposes of the Paperwork Reduction Act and is not derived from a comprehensive or representative survey or study of the costs of complying with the requirements of Commission rules and forms.

An agency may not conduct, and a person is not required to respond to, a collection of information unless it displays a currently valid control number.

Please direct general comments regarding the above information to the following persons: (i) Desk Officer for the Securities and Exchange Commission, Office of Information and Regulatory Affairs, Office of Management and Budget, Room 10102, New Executive Office Building, Washington, DC 20503; and (ii) Kenneth A. Fogash, Acting Associate Executive Director/CIO, Office of Information Technology, Securities and Exchange Commission, 450 5th Street, NW., Washington, DC 20549. Comments must be submitted to OMB within 30 days of this notice.

Dated: October 1, 2003.
Margaret H. McFarland,
Deputy Secretary.

[FR Doc. 03-25512 Filed 10-7-03; 8:45 am]

BILLING CODE 8010-01-P